FEDERAL COMMUNICATIONS COMMISSION

47 CFR Part 15

[ET Docket No. 05-24; FCC 06-123]

DTV Tuner Requirements

AGENCY: Federal Communications Commission.

ACTION: Final rule.

SUMMARY: This document addresses a Petition for Reconsideration or Clarification of the Commission's Second Report and Order in this proceeding, submitted on behalf of PDI Communications Systems, Inc. (PDI) and a subsequent Supplement to Petition for Clarification also filed on behalf of PDI in this same matter.

DATES: Effective October 13, 2006.

FOR FURTHER INFORMATION CONTACT: Alan Stillwell, Office of Engineering and Technology, (202) 418-2925, e-mail: Alan.Stillwell@fcc.gov, TTY (202) 418-2989.

SUPPLEMENTARY INFORMATION: This is a summary of the Commission's Order, ET Docket No. 05-24, FCC 06-123, adopted August 15, 2006 and released August 17, 2006. The full text of this document is available on the Commission's Internet site at http://www.fcc.gov. It is also available for inspection and copying during regular business hours in the FCC Reference Center (Room CY-A257), 445 12th Street, SW., Washington, DC 20554. The full text of this document also may be purchased from the Commission's duplication contractor, Best Copy and Printing, Inc., Portals II, 445 12th St., SW., Room CY-B402, Washington, DC 20554; telephone (202) 488-5300; fax (202) 488-5563; e-mail FCC@BCPIWEB.COM.

Summary of the Order

1. The Commission addressed a Petition for Reconsideration or Clarification of the Commission's Second Report and Order in ET Docket No. 05-24, 70 FR 75739, December 21, 2005, submitted on behalf of PDI Communications Systems, Inc. (PDI) and a subsequent Supplement to Petition for Clarification also filed on behalf of PDI in this same matter. In the Second Report and Order, the Commission amended its rules to advance to March 1, 2007 the date on which new broadcast television receivers with screen sizes 13-24″ and certain other broadcast TV receiving devices that do not have screens, such as VCRs and video recorders, must include the capability to receive broadcast digital television signals (DTV tuner requirement), and required new receivers with screen sizes smaller than 13″ to incorporate this capability on the same schedule.

2. PDI's request concerns the application of the DTV tuner requirement to new broadcast television receivers with screen sizes less than 13″, and specifically the application of that requirement to a specialized video system PDI manufactures and distributes for use in the healthcare industry. PDI asks that the Commission clarify the rules as adopted in the Second Report and Order to state that the DTV tuner requirement does not apply to the viewing units included in specialized video systems such as the PDI system. Alternately, it asks the Commission to modify its rules to provide on a case-by-case basis, waivers for viewing units used in specialized video systems when the application of the rule would not advance the Commission's stated objectives in the Second Report and Order.

3. Upon examining PDI's petition, supplemental filing, and the accompanying attachments, the Commission concludes that the viewing units in PDI's video system are television broadcast receivers as defined in Section 15.3(w) of the Commission's rules to which the DTV tuner requirement applies. In this regard, the Commission observes that the petition indicates that the PDI viewing units can be used to receive off-the-air signals. We further observe that the user manuals for the PERSONA 9 and PERSONA 10 viewing unit models specifically indicate that the units' channel setup features are configured to autoprogram for reception of “air” signals. In the broadcast reception mode, the cable providing both program signals and power connects to an antenna through the central system. The design feature by which the off-the-air signals are routed through the central system does not alter the fact that the video units can receive signals off-the-air (and apparently in some instances are used for that purpose).

4. The Commission does not find merit in PDI's argument that requiring its viewing units to include DTV tuners would not advance the Commission's goals in applying that requirement to smaller screen receivers. In the Second Report and Order, the Commission stated that, as it observed in first adopting the DTV tuner requirement, consumers must be able to receive digital TV signals for the DTV transition to move forward to a successful completion. To that end, the Commission's goal is to maximize the number of TV receivers on the market, with a final goal that all new television receiver products include a tuner as quickly as possible. While the PDI viewing units are different than most TV receivers with screens smaller than 13″ in that they are designed to receive service from a separate antenna connected through a cable rather than an attached antenna, that does not alter the fact that the PDI units would not be able to receive off-the-air TV signals when analog TV service ends unless they include a DTV tuner.

5. If the PDI viewing units are not able to receive digital TV service after the transition ends, those patients who view off-the-air TV signals on them, as well as the health care providers who own and operate the systems, will lose the benefits of that service. In this regard, the Commission recognizes that when analog TV service ends those PDI systems that are configured with analog only viewing units will not be able to offer off-the-air TV service. Applying the DTV tuner requirement to new viewing units will include the PDI systems in the transition process and minimize the number of viewing units that will need to be replaced when analog service ends. Therefore, the Commission will not exempt viewing units that are included in specialized video systems as described by PDI from the DTV tuner requirement.

6. The Commission also concludes that it would be inconsistent with these goals to establish a process that would provide for favorable treatment of requests for waiver of the DTV tuner requirement for TV receivers used in specialized video systems. As indicated, the Commission believes it is important to ensure that new TV receiver products include DTV reception as soon as possible.

7. The Commission recognizes PDI's position that the process for meeting the safety requirements for equipment used in medical facilities, coupled with PDI's position as a smaller manufacturer, may pose difficulties for PDI in meeting the March 1, 2007 effective date when all new TV receivers must comply with the DTV tuner requirement. In view of these circumstances, and pursuant to PDI's request that the Commission provide for a waiver of the rules in such cases, we find that a limited waiver of the DTV tuner requirement under the provisions of Section 1.3 is warranted to allow PDI additional time to bring the existing models of its viewing units into compliance. In this limited case of receivers used as part of a system intended for use in health care facilities, the Commission finds that providing an additional year for PDI Communications to bring its existing video system viewing unit models into compliance would serve the public interest without otherwise compromising its goals for ensuring that consumers are able to view broadcasters' digital television signals.

8. The Commission therefore denies PDI Communications Systems, Inc.'s requests that it: (1) Determine that the DTV reception requirement in § 15.117(i) of the Commission's rules does not apply to its video system or (2) modify its rules to provide a waiver procedure by which parties may seek a waiver of the March 1, 2007 effective date of that requirement for monitors used in specialized video systems. The Commission, however, is extending the date on which new units of the PERSONA 9 (Model PDI-P9TV) and PERSONA 10 (Model PDI-P10-LCD) viewing unit components of the PDI video system must comply with the DTV tuner requirement to March 1, 2008. That is, PDI Communications System, Inc. may continue to import and/or ship in interstate commerce units of its PERSONA 9 and PERSONA 10 viewing units that do not include the capability to receive broadcast television signals until February 28, 2008; on March 1, 2008 and thereafter new units of those products that are imported or shipped in interstate commerce must comply with the DTV tuner requirement.

Ordering Clause

9. The Congressional Review Act (CRA) was addressed in the Second Report and Order released by the Commission, November 8, 2005, in “In the Matter of Requirements for Digital Television Receiving Capability, in this proceeding, FCC 05-190, 70 FR 75739, December 21, 2005. This Order does not change any rules it only extends the date on which new units of the PERSONA 9 (Model PDI-P9TV) and PERSONA 10 (Model PDI-P10-LCD) viewing unit components of the PDI video system must comply with the DTV tuner requirement to March 1, 2008.

10. Pursuant to the authority contained in sections 2(a), 4(i) and (j), 7, 151, and 303 of the Communications Act of 1934, as amended, 47 U.S.C. 152(a), 154(i) and (j), 157, 303, and 405, and sections 1.3 and 1.106 of the Commission's rules, 47 CFR 1.3 and 1.106, the Petition for Reconsideration or Clarification submitted by John S. Logan on behalf of PDI Communications, Inc. is denied in part and granted in part.

Federal Communications Commission.
Marlene H. Dortch,
Secretary.

[FR Doc. E6-15067 Filed 9-12-06; 8:45 am]

BILLING CODE 6712-01-P